FEDERAL ELECTION COMMISSION

Sunshine Act Notices

Date and Time: Tuesday, July 14, 2009, 10:30 a.m. Wednesday, July 15, 2009, 10 a.m.

Place: 999 E Street, NW., Washington, DC (Ninth Floor).

Status: This meeting will be closed to the public.

Items To Be Discussed: Compliance matters pursuant to 2 U.S.C. § 437g. Audits conducted pursuant to 2 U.S.C. § 437g, § 438(b), and Title 26, U.S.C. Matters concerning participation in civil actions or proceedings or arbitration. Internal personnel rules and procedures or matters affecting a particular employee.

Date and Time: Thursday, July 16, 2009, at 10 a.m.

Place: 999 E Street, NW., Washington, DC (Ninth Floor).

Status: This meeting will be open to the public.

Items To Be Discussed: Correction and Approval of Minutes.

Draft Advisory Opinion 2009-13: The Black Rock Group, by WiIIam J. McGinley, Esq. Report of the Audit Division on Edwards for President. Final Rule on Transfer of Motor Voter Regulations to the EAC. Presidential Debates Rulemaking Petitions—Suggested Disposition.

Proposed Rule of Agency Procedures: Notice to Respondents in Non-Complaint Generated Matters.

Proposed Rule of Agency Procedures: Notice to Named Respondents of Additional Material Facts or Additional Potential Violations.

Proposed Rule of Agency Procedures: Notice to Potential Respondents in Enforcement.

Proposed Rule of Agency Procedures: Modification of Procedural Rules for Probable Cause Hearings.

Management and Administrative Matters.

Individuals who plan to attend and require special assistance, such as sign language interpretation or other reasonable accommodations, should contact Mary Dove, Commission Secretary, at (202) 694-1040, at least 72 hours prior to the hearing date.

PERSON TO CONTACT FOR INFORMATION: Judith Ingram, Press Officer, Telephone: (202) 694-1220.

Mary W. Dove,
Secretary of the Commission.

[FR Doc. E9-16701 Filed 7-14-09; 8:45 am]

BILLING CODE 6715-01-M